CORPORATION FOR NATIONAL AND COMMUNITY SERVICE

45 CFR Part 2553

RIN 3045-AA31

Retired and Senior Volunteer Program; Amendments

AGENCY: Corporation for National and Community Service.

ACTION: Proposed rule.

SUMMARY: The amendments to the Regulation governing the Retired and Senior Volunteer Program include: improving access of persons with limited English speaking proficiency; and increasing sponsor flexibility to use project resources as needed.

DATES: Submit comments on or before January 14, 2002.

ADDRESSES: Send comments to the Corporation for National and Community Service, National Senior Service Corps, Attn: Mr. John B. Keller, 9th Floor, 1201 New York Avenue, NW., Washington, DC 20525.

FOR FURTHER INFORMATION CONTACT: John B. Keller, 202-606-5000, ext. 285.

SUPPLEMENTARY INFORMATION:

Background

The Regulation that is the subject of this amendment implemented changes to the Domestic Volunteer Service Act of 1973, as amended, and established or clarified minimum program requirements. The following changes to the Regulation are now being proposed:

(1) Executive Order 13166 issued August 11, 2000, requires that each Federal agency develop a plan to improve access to its programs by eligible persons who, as a result of national origin, are limited in their English proficiency. The Corporation's intent is to amend the regulations to improve access of persons with limited English proficiency.

(2) RSVP sponsors requested increased flexibility to use project resources as needed to respond to critical community needs. The Corporation concurs with this request and supports amending the regulation to permit such flexibility.

List of Subjects in 45 CFR Part 2553

Aged, Grant programs-social programs, Volunteers.

For the reasons set forth in the preamble, the Corporation for National and Community Service proposes to amend 45 CFR part 2553 as follows:

PART 2553—THE RETIRED AND SENIOR VOLUNTEER PROGRAM

1. The authority citation for Part 2553 continues to read as follows:

Authority: 42 U.S.C. 4950 et seq.

2. Revise § 2553.23 (c)(2)(iv) to read as follows:

§ 2553.23 What are a sponsor's program responsibilities?

* * * * *

(c) * * *

(2) * * *

(iv) That states the station assures it will not discriminate against RSVP volunteers or in the operation of its program on the basis of race; color; national origin, including individuals with limited English proficiency; sex; age; political affiliation; religion; or on the basis of disability, if the participant or member is a qualified individual with a disability; and

* * * * *

§ 2553.72 [Amended]

3. In § 2553.72, remove paragraph (e).

4. Revise § 2553.73(i) to read as follows:

§ 2553.73 What are grants management requirements?

* * * * *

(i) Written Corporation State Office approval/concurrence is required for a change in the approved service area.

Dated: November 1, 2001.
Tess Scannell,
Acting Director, National Senior Service Corps.

[FR Doc. 01-28254 Filed 11-9-01; 8:45 am]

BILLING CODE 6050-$$-P